ENVIRONMENTAL PROTECTION AGENCY

40 CFR Part 52

[EPA-R06-OAR-2016-0464; FRL-9962-22-Region 6]

Approval and Promulgation of Implementation Plans; Texas; Revisions to the General Definitions for Texas Air Quality Rules

AGENCY: Environmental Protection Agency (EPA).

ACTION: Proposed rule.

SUMMARY: Pursuant to the Federal Clean Air Act (CAA), the Environmental Protection Agency (EPA) is proposing to approve revisions of the Texas State Implementation Plan (SIP) pertaining to EPA's latest definition of volatile organic compounds (VOC), aligning the lead reporting threshold with the EPA's Annual Emissions Reporting Rule (AERR), shortening the distance from the shoreline for applicable offshore sources to report an emission inventory, and revising terminology and definitions for clarity or consistency with the EPA's AERR. EPA is proposing these actions under section 110 of the CAA through a direct final rulemaking.

DATES: Written comments should be received on or before July 10, 2017.

ADDRESSES: Submit your comments, identified by EPA-R06-OAR-2016-0464, at http://www.regulations.gov or via email to Ms. Nevine Salem. For additional information on how to submit comments see the detailed instructions in the ADDRESSES section of the direct final rule located in the rules section of this Federal Register.

FOR FURTHER INFORMATION CONTACT: Ms. Nevine Salem, (214) 665-7222, salem.nevine@epa.gov.

SUPPLEMENTARY INFORMATION: In the final rules section of this Federal Register, the EPA is approving the State's SIP submittal as a direct rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: May 24, 2017.
Samuel Coleman,
Acting Regional Administrator, Region 6.

[FR Doc. 2017-11902 Filed 6-7-17; 8:45 am]

BILLING CODE 6560-50-P